DEPARTMENT OF THE INTERIOR

National Park Service

Thirty-day Notice of Submission of Study Package to Office of Management and Budget—Opportunity for Public Comment

AGENCY: Department of the Interior, National Park Service.

ACTION: Notice and request for comments.

SUMMARY: The National Park Service (NPS) Social Science Program has submitted to the Office of Management and Budget (OMB) a request for clearance of a renewed program of social science surveys of the public related to the mission of the NPS. The NPS is publishing this notice to inform the public of this program and to request comments on the program.

Since many of the NPS surveys are similar in terms of the populations being surveyed, the types of questions being asked, and research methodologies, the NPS proposed to OMB and received clearance for a program of approval for NPS-sponsored public surveys (OMB# 1024-0224 exp. 8/31/2001; three-year extension granted in September 2001, exp. 9/30/2004). The program presented an alternative approach to complying with the Paperwork Reduction Act (PRA). In the five years since the NPS received clearance for the program of expedited approval, 193 public surveys have been conducted in units of the National Park System. The benefits of this program have been significant to the NPS, Department of the Interior (DOI), OMB, NPS cooperators, and the public. Significant time and cost savings have been incurred. Expedited approval was typically granted in 45 days or less from the date the Principal Investigator first submitted a survey package for review. This is a significant reduction over the approximate 6 months involved in the standard OMB approval process. It is estimated that the expedited approval process saved a total of 870 months in Fiscal Years 1999-2003. In five years, the expedited approval process has accounted for a cost savings to the federal government and PIs estimated at $348,001. The initial program included surveys of park visitors. The program renewed in September 2001 included surveys of park visitors, potential park visitors, and residents of communities near parks. The current extension request proposes to continue with a program of social science surveys of park visitors, potential park visitors, and residents of communities near parks.

Under provisions of the Paperwork Reduction Act of 1995 and 5 CFR Part 1320, Reporting and Record Keeping Requirements, the National Park Service is soliciting comments on: (a) Whether the collection of information is necessary for the proper performance of the functions of the NPS, including whether the information will have practical utility; (b) the accuracy of the NPS estimate of the burden of the collection of information, including the validity of the methodology and assumptions used; (c) the quality, utility, and clarity of the information to be collected; and (d) how to minimize the burden of the collection of information on those who are to respond, including the use of appropriate automated, electronic, mechanical, or other forms of information technology.

DATES: Public comments will be accepted on or before 30 days from the date of publication in the Federal Register.

ADDRESSES: You may submit comments directly to the Desk Officer for the Department of the Interior (OMB #1024-0224), Office of Management and Budget Office of Information and Regulatory Affairs (OMB-OIRA) by fax at 202-395-5806 or e-mail at oira_docket@omb.eop.gov.

FOR FURTHER INFORMATION OR A COPY OF THE STUDY PACKAGE, CONTACT: Dr. James H. Gramann. Voice: 202-513-7189, Fax: 202-371-2131, E-mail: james_gramann@partner.nps.gov or Brian E. Forist. Voice: 202-513-7190, Fax: 202-371-2131, E-mail: brian_forist@partner.nps.gov.

Request for Clearance of a Three Year Program of Collections of Information: Programmatic Approval of NPS-Sponsored Public Surveys.

SUPPLEMENTARY INFORMATION: Title: Programmatic Approval of NPS-Sponsored Public Surveys.

Bureau Form Number: None.

OMB Number: 1024-0224.

Expiration date: 9/30/2004.

Type of request: Extension of a currently approved collection.

Description of need: The National Park Service needs information concerning park visitors and visitor services, potential park visitors, and residents of communities near parks to provide park and NPS managers with usable knowledge for improving the quality and utility of agency programs, services, and planning efforts.

Automated data collection: At the present time, there is no automated way to gather this information, since the information gathering process involves asking the public to evaluate services and facilities that they used during their park visits, services and facilities they are likely to use on future park visits, perceptions of park services and facilities, opinions regarding park management, and technical assistance provided by the agency. The burden on individuals is minimized by rigorously designing public surveys to maximize the ability of the surveys to use small samples of individuals to represent large populations of the public, and by coordinating the program of surveys to maximize the ability of new surveys to build on the findings of prior surveys.

Description of Respondents: A sample of visitors to parks, potential visitors to parks, and residents of communities near parks.

Estimated average number of respondents: The program does not identify the number of respondents because that number will differ in each individual survey, depending on the purpose and design of each information collection.

Estimated average number of responses: The program does not identify the average number of responses because that number will differ in each individual survey, depending on the purpose and design of each individual survey. For most surveys, each respondent will be asked to respond only one time, so in those cases the number of responses will be the same as the number of respondents.

Estimated average burden hours per response: The program does not identify the average burden hours per response because that number will differ from individual survey to individual survey, depending on the purpose and design of each individual survey.

Frequency of response: Most individual surveys will request only 1 response per respondent.

Estimated annual reporting burden: The program identifies the requested total number of burden hours annually for all of the surveys to be conducted under its auspices to be 15,000 burden hours per year. The total annual burden per survey for most surveys conducted under the auspices of this program would be within the range of 100 to 300 hours.

Information Collection Clearance Officer, WASO Administrative Program Center, National Park Service.

Dated: September 17, 2004.
Doris Lowery,
Acting, Information Collection Officer.

[FR Doc. 04-22570 Filed 10-6-04; 8:45 am]

BILLING CODE 4310-70-P